DEPARTMENT OF HEALTH AND HUMAN SERVICES

Centers for Medicare & Medicaid Services

[CMS-1297-N]

Medicare Program; Public Meetings in Calendar Year 2005 for All New Public Requests for Revisions to the Healthcare Common Procedure Coding System (HCPCS) Coding and Payment Determinations

AGENCY: Centers for Medicare & Medicaid Services (CMS), HHS.

ACTION: Notice.

SUMMARY: This notice announces the dates and location of the Healthcare Common Procedure Coding System (HCPCS) public meetings to be held in calendar year 2005 to discuss our preliminary coding and payment determinations for all new public requests for revisions to the HCPCS. These meetings provide a forum for interested parties to make oral presentations or to submit written comments in response to preliminary coding and payment determinations. Discussion will be directed toward responses to our specific preliminary recommendations and will include all items on the public meeting agenda.

DATES: Meeting Dates: Given the expansion of the public meeting process, we have scheduled 8 additional meeting times for 2005: Tuesday, June 7; Wednesday, June 8; Tuesday, June 14; Wednesday, June 15; Thursday, June 16; Tuesday, June 21; Wednesday, June 22; and Thursday, June 23. We may not need all 8 days. Once the review and coding recommendation process is underway, we will have a firmer idea of the exact number of days needed to schedule the public meetings. We will consider each meeting individually, and we may modify the meeting dates and times published in this notice.

Final confirmation of meeting dates, times, and agenda items will be posted 3 weeks in advance of each scheduled meeting on the official HCPCS Web site: http://www.cms.hhs.gov/medicare/hcpcs. Each meeting day will begin at 9 a.m. and end at 5 p.m., E.S.T.

ADDRESSES: The public meetings will be held in the auditorium at Centers for Medicare & Medicaid Services, 7500 Security Boulevard, Baltimore, Maryland 21244.

FOR FURTHER INFORMATION CONTACT: Gloria Knight, (410) 786-4598, Jennifer Carver, (410) 786-6610.

Web Site: Additional details regarding the public meeting process for all new public requests for revisions to the HCPCS, along with information on how to register and guidelines for an effective presentation, will be posted at least 1 month before the first meeting date on the official HCPCS Web site: http://www.cms.hhs.gov/medicare/hcpcs.

Individuals who intend to provide a presentation at a public meeting need to familiarize themselves with this information. The HCPCS Web site will also include “The Healthcare Common Procedures Coding System (HCPCS) Procedures,” a description of the new HCPCS coding process, along with a detailed explanation of the procedures used to make coding and payment determinations for all the products, supplies, and services that are coded in the HCPCS. A summary of each public meeting will be posted on the HCPCS Web site by the end of July 2005.

SUPPLEMENTARY INFORMATION:

I. Background

On December 21, 2000, the Congress passed the Medicare, Medicaid, and SCHIP Benefits Improvement and Protection Act of 2000 (BIPA) (Pub. L. 106-554). Section 531(b) of BIPA mandated that we establish procedures that permit public consultation for coding and payment determinations for new durable medical equipment (DME) under Medicare Part B of title XVIII of the Social Security Act (the Act). The procedures and public meetings announced in this notice for new DME are in response to the mandate of section 531(b) of BIPA.

We published a notice in the November 23, 2001 Federal Register (66 FR 58743) with information regarding the establishment of the public meeting process for DME.

The public meeting process previously limited to DME has been expanded to include all new public requests for revisions to the HCPCS. This change will provide more opportunities for the public to become aware of coding changes under consideration, as well as opportunities for CMS to gather public input.

II. Registration

Registration Procedures: Registration can be completed online at http://www.cms.hhs.gov/medicare/hcpcs. To register by telephone, contact Public Meeting Coordinators Gloria Knight at (410) 786-4598 or Jennifer Carver at (410) 786-6610. The following information must be provided when registering: name, company name and address, telephone and fax numbers, e-mail address, and special needs information. Registrants must also indicate whether they are the “primary speaker” for an agenda item. Primary speakers must be designated by the entity that submitted the HCPCS coding request. A CMS staff member will confirm your registration by mail, e-mail, or fax.

Registration Deadline: Individuals must register for each date they plan either to attend or to provide a presentation. The deadline for registration of all the meeting dates is Tuesday, May 17, 2005.

III. Presentations and Comment Format

A. Primary Speaker Presentations

The entity that requested revisions to the HCPCS coding system for a particular agenda item may designate one “primary speaker” to make a presentation for a maximum of 15 minutes. Fifteen minutes is the total time interval for the presentation, and must incorporate the demonstration, set-up, and distribution of material. In establishing the public meeting agenda, we may group multiple, related requests under the same agenda item. In that case, we will decide whether additional time will be allotted, and may opt to increase the amount of time allotted to the speaker by increments of less than 15 minutes. In other words, the amount of time allotted to aggregate proposals might not be expanded exponentially by the number of requests.

We will post “Guidelines for Participation in Public Meetings for All New Public Requests for Revisions to the Healthcare Common Procedure Coding System (HCPCS) Coding and Payment Determinations” on the official HCPCS Web site at least a month before the first public meeting in 2005 for all new public requests for revisions to the HCPCS. Individuals designated to be the primary speaker must register to attend the meeting using the registration procedures described above and, at least 15 days before the meeting, contact one of the Public Meeting Coordinators, Gloria Knight at (410) 786-4598 or Jennifer Carver at (410) 786-6610. At the time of registration, primary speakers must provide a brief, written statement regarding the nature of the information they intend to provide, and advise the meeting coordinator regarding needs for audio/visual Support. In order to avoid disruption of the meeting and ensure compatibility with our systems, tapes and disk files are tested and arranged in speaker sequence well in advance of the meeting. We will accommodate tapes and disk files that are received by the Public Meeting Coordinators 7 or more calendar days before the meeting.

B. “5-Minute” Speaker Presentations

Meeting attendees can sign up at the meeting, on a first-come, first-served basis, to make 5-minute presentations on individual agenda items. Based on the number of items on the agenda and the progress of the meeting, a determination will be made at the meeting by the meeting coordinator and the meeting moderator regarding how many 5-minute speakers can be accommodated. In order to offer the same opportunity to all attendees, there is no pre-registration for 5-minute speakers. Attendees can sign up only on the day of the meeting to do a 5-minute presentation. They must provide their name, company name and address, contact information as specified on the sign-up sheet, and identify the specific agenda item that will be addressed.

C. Speaker Declaration

On the day of the meeting, prior to the end of the meeting, all primary speakers and 5-minute speakers must provide a brief written summary of their comments and conclusions to the Public Meeting Coordinator.

The primary speakers and the 5-minute speakers must declare in their presentations at the meeting, as well as in their written summaries, whether they have any financial involvement with the manufacturers or competitors of any items or services being discussed; this includes any payment, salary, remuneration, or benefit provided to that speaker by the manufacturer or the manufacturer's representatives.

D. Written Comments From Meeting Attendees

Written comments are welcome from all persons in attendance at a public meeting, regardless of whether they make an oral presentation. Written comments can be submitted either at the meeting or before the meeting via e-mail to http://www.cms.hhs.gov/medicare/hcpcs or via regular mail to the HCPCS Coordinator, Centers for Medicare & Medicaid Services, 7500 Security Boulevard, Mail Stop C5-08-27, Baltimore, MD 21244. Written comments to this address are also accepted from the general public anytime up to the date of the public meeting at which a request is discussed. Due to the close timing of the public meetings, subsequent workgroup reconsiderations, and final decisions, we are able to consider only those comments received in writing by the close of the public meeting at which the request is discussed.

IV. Security, Building, and Parking Guidelines

The meetings are held in a Federal government building; therefore, Federal security measures are applicable. In planning your arrival time, we recommend allowing additional time to clear security. In order to gain access to the building and grounds, participants must bring government-issued photo identification and a copy of your written meeting registration confirmation. Persons without proper identification may be denied access.

Individuals who are not registered in advance will not be permitted to enter the building and will be unable to attend the meeting. The public may not enter the building earlier than 30 to 45 minutes prior to the convening of the meeting each day.

Security measures also include inspection of vehicles, inside and out, at the entrance to the grounds. In addition, all persons entering the building must pass through a metal detector. All items brought to CMS, whether personal or for the purpose of demonstration or to support a presentation, are subject to inspection. We cannot assume responsibility for coordinating the receipt, transfer, transport, storage, set-up, safety, or timely arrival of any personal belongings or items used for demonstration or to support a presentation.

Parking permits and instructions are issued upon arrival by the guards at the main entrance.

All visitors must be escorted in areas other than the lower and first-floor levels in the Central Building.

V. Special Accommodations

Individuals attending a meeting who are hearing or visually impaired and have special requirements, or a condition that requires special assistance or accommodations, must provide this information when registering for the meeting.

Authority: Sections 1102 and 1871 of the Social Security Act (42 U.S.C. 1302 and 42 U.S.C. 139hh).

Dated: March 8, 2005.
Mark B. McClellan,
Administrator, Centers for Medicare & Medicaid Services.

[FR Doc. 05-5029 Filed 3-24-05; 8:45 am]

BILLING CODE 4120-01-P